DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Reconciliation Tool for the Teaching Health Center Graduate Medical Education Program.

OMB No.: 0915-0342-Extension.

Abstract: The Teaching Health Center Graduate Medical Education (THCGME) program, Section 340H of the Public Health Service (PHS) Act, was established by Section 5508 of Public Law 111-148. The program supports training for primary care residents (including residents in family medicine, internal medicine, pediatrics, internal medicine pediatrics, obstetrics and gynecology, psychiatry, general dentistry, pediatric dentistry, and geriatrics) in community based ambulatory patient care settings.

The statute provides that eligible Teaching Health Centers receive payment for both direct and indirect expenses associated with training residents in community-based ambulatory patient care centers. Direct medical expenses payments are designed to compensate eligible teaching health centers for those expenses directly associated with resident training, while indirect medical expenses payments are intended to compensate for the additional costs of training residents in such programs.

Need and Proposed Use of the Information: THCGME program payments are prospective payments and the statute provides for a reconciliation process, through which overpayments may be recouped and underpayments may be adjusted at the end of the fiscal year. This data collection instrument will gather information relating to the numbers of residents in THCGME training programs in order to reconcile payments for both direct and indirect expenses.

Likely Respondents: The likely respondents to the THCGME Reconciliation Tool are existing THCGME program award recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
THCGME Reconciliation Tool | 44 | 1 | 44 | 2 | 88
Total | 44 | 1 | 44 | 2 | 88

Dated: March 11, 2014.
Jackie Painter,
Deputy Director, Division of Policy and Information Coordination.

[FR Doc. 2014-06999 Filed 3-28-14; 8:45 am]

BILLING CODE 4165-15-P